DEPARTMENT OF HOMELAND SECURITY

Privacy Office

Published Privacy Impact Assessments on the Web

AGENCY: Privacy Office, Office of the Secretary, Department of Homeland Security.

ACTION: Notice of Publication of Privacy Impact Assessments.

SUMMARY: The Privacy Office of the Department of Homeland Security is making available five (5) Privacy Impact Assessments on various programs and systems in the Department. These assessments were approved and published on the Privacy Office's Web site between March 1, 2007 and March 31, 2007.

DATES: The Privacy Impact Assessments will be available on the DHS Web site until July 2, 2007, after which they may be obtained by contacting the DHS Privacy Office (contact information below).

FOR FURTHER INFORMATION CONTACT: Hugo Teufel III, Chief Privacy Officer, Department of Homeland Security, Mail Stop 0550, Washington, DC 20528, or e-mail: pia@dhs.gov.

SUPPLEMENTARY INFORMATION: Between March 1, 2007 and March 31, 2007, the Chief Privacy Officer of the Department of Homeland Security (DHS) approved and published five (5) Privacy Impact Assessments (PIAs) on the DHS Privacy Office Web site, http://www.dhs.gov/privacy, under the link for “Privacy Impact Assessments.” Below is a short summary of each of those systems, indicating the DHS component responsible for the system and the date on which the PIA was approved. Additional information can be found on the Web site or by contacting the Privacy Office.

System: The Department of Homeland Security REAL-ID ACT.

Component: Department-wide Programs.

Date of approval: March 1, 2007.

The Department of Homeland Security (DHS) Privacy Office conducted a Privacy Impact Assessment (PIA) on the rule proposed by DHS to implement the REAL ID Act. The authority for this PIA is Subsection 4 of Section 222 of the Homeland Security Act of 2002, as amended, which calls for the Chief Privacy Officer of the Department of Homeland Security to conduct a “privacy impact assessment of proposed rules of the Department.” This analysis reflects the framework of the Privacy Office's Fair Information Principles, which are: Transparency, Individual Participation, Purpose Specification, Minimization, Use Limitation, Data Quality and Integrity, Security, and Accountability and Auditing. The Privacy Office conducts PIAs, whether under Subsection 4 of Section 222 or under Section 208 of the E-Government Act, to ensure that DHS is fully transparent about how its proposed rules, final rules, and intended information technology systems may affect privacy and to review alternative approaches and technologies that may minimize the privacy impact on individuals. This PIA examines the manner and method by which the personal information of American drivers and identification (ID) holders will be collected, used, disseminated, and maintained pursuant to the proposed rule issued under the REAL ID Act. This PIA will be updated, as necessary, when the rule is final.

System: U.S. Citizenship and Immigration Services' Biometric Storage System.

Component: U.S. Citizenship and Immigration Service.

Date of approval: March 28, 2007.

The United States Citizenship and Immigration Services (USCIS) is developing the Biometric Storage System (BSS) to help streamline the established USCIS biometric and card production processes and become the centralized repository for all USCIS customer biometrics. BSS will route, store, and process 10-print fingerprint biometrics and associated biographic information for biometric-based background checks on those individuals applying/petitioning for immigration benefits. BSS is a new system being developed incrementally and will replace the Image Storage and Retrieval System (ISRS). BSS will also replace aspects of the Benefit Biometric Support System (BBSS), while adding new functionalities that did not previously exist in either ISRS or BBSS. A Systems of Records Notice was published in the Federal Register in connection with this PIA on April 6, 2007 (72 FR 17172).

System: Chemical Security Assessment Tool.

Component: National Protection and Programs, formerly Preparedness.

Date of approval: March 27, 2007.

The Department of Homeland Security/National Protection and Programs, formerly Preparedness will deploy and maintain the Chemical Security Assessment Tool (CSAT) in support of the Regulations for Chemical Facility Security released on April 2, 2007. The CSAT is designed to be a web-based self-assessment tool for use by chemical facilities. The CSAT will collect and maintain information for a Point of Contact for each participating facility. This PIA covers the new CSAT system.

System: Transportation Security Administration's Tactical Information Sharing System.

Component: Transportation Security Administration.

Date of approval: March 28, 2007.

The Transportation Security Administration (TSA) operates the Tactical Information Sharing System (TISS). The TISS receives, assesses, and distributes intelligence information related to transportation security to Federal Air Marshals and other Federal, State, and local law enforcement.

System: United States Visitor and Immigrant Status Indicator Technology Program (US-VISIT) Inclusion of Form I-94 Data in the Arrival and Departure Information System (ADIS).

Component: U.S. Visitor Immigrant Status Indicator Technology Program.

Date of approval: March 27, 2007.

This Privacy Impact Assessment update for the Arrival and Departure Information System is necessary to (1) clarify that I-94 data from land points of entry (POEs) is stored in ADIS and not just in the Treasury Enforcement Communications System; and (2) notify the public of the extension of the collection and processing of Form I-94 data in ADIS to include air and sea POEs.

Dated: April 23, 2007.
Hugo Teufel III,
Chief Privacy Officer.

[FR Doc. E7-8419 Filed 5-2-07; 8:45 am]

BILLING CODE 4410-10-P